DEPARTMENT OF COMMERCE

International Trade Administration

[A-570-848]

Notice of Extension of Time Limit for Final Results of Antidumping Administrative Review and New Shipper Reviews: Freshwater Crawfish Tail Meat From the People's Republic of China

AGENCY: Import Administration, International Trade Administration, Department of Commerce

EFFECTIVE DATE: January 31, 2001.

FOR FURTHER INFORMATION CONTACT: Samantha Denenberg or Abdelali Elouaradia, Import Administration, International Trade Administration, U.S. Department of Commerce, 14th Street and Constitution Avenue, N.W., Washington, D.C. 20230; telephone: (202) 482-1386 and (202) 482-1374, respectively.

The Applicable Statute

Unless otherwise indicated, all citations to the Tariff Act of 1930, as amended (the Act) are to the provisions effective January 1, 1995, the effective date of the amendments made to the Act by the Uruguay Round Agreements Act. In addition, unless otherwise indicated, all citations to the Department's regulations are to 19 CFR part 351 (1999).

Background

On September 30, 1999, in accordance with 19 CFR 351.213(b), respondents and petitioner submitted their requests for administrative reviews. On October 28, 1999, the Department published its initiation of this administrative review for the period September 1, 1998 through August 31, 1999 (64 FR 60161). On September 19, 1999 and September 30, 1999, pursuant to section 751(a)(2)(B) of the Act and section 351.214(b) of the Department's regulations, several Chinese companies requested new shipper reviews for the same period. On November 15, 1999, the Department published its initiation of the new shipper reviews (64 FR 61833). On August 2, 2000, the deadlines for the new shipper reviews were aligned with those of the administrative review (65 FR 48466). On October 11, 2000, the Department published the preliminary results of the combined reviews (65 FR 60399).

Extension of Time Limits for Final Results

Due to the complex issue of selecting surrogate country values for the factors of production, we find that it is not practicable to make a final determination by the current deadline of February 8, 2001. Therefore, in accordance with section 751(a)(3)(A) of the Act and section 351.213(h)(2) of the Department's regulations, the Department is extending the time period for issuing the final results of these reviews for 60 days, until no later than April 9, 2001.

Dated: January 25, 2001.
Joseph A. Spetrini,
Deputy Assistant Secretary AD/CVD Enforcement Group III.

[FR Doc. 01-2686 Filed 1-30-01; 8:45 am]

BILLING CODE 3510-DS-P